NATIONAL SCIENCE FOUNDATION

Privacy Act; Revisions to Existing System of Records; Revised System

AGENCY: National Science Foundation.

ACTION: Notice of revision to system of records.

SUMMARY: Pursuant to the Privacy Act of 1974, (5 U.S.C. 552a), the National Science Foundation provides notice of revisions to an existing system of records, NSF-53, “Public Transportation Subsidy Program,” as a result of changes expanding program participation to all eligible NSF employees (rather than GS-10 and below), and increasing benefits from a flat rate to actual commuting costs up to the authorized maximum benefit amount. No revisions are made to existing routine uses. The entire system notice is nonetheless included to make it easier to read.

EFFECTIVE DATE: September 29, 2000.

NSF-53

System name:

Public Transportation Subsidy Program.

System location:

National Science Foundation, Office of Information and Resource Management, Division of Administrative Services, 4201 Wilson Boulevard, Arlington, VA 22230.

Categories of individuals covered by the system:

National Science Foundation employees who apply for or participate in the transit subsidy program.

Categories of records in the system:

May include name, modes of transportation used for commuting, and commuting costs.

Authority for maintenance of the system:

42 U.S.C. 1870; Pub. L. 101-509; E.O. 13150; and the Federal Employees Clean Air Incentives Act, (section 2(a) of Pub. L. 103-172), 5 U.S.C. 7905.

Purpose(s):

To administer the public transportation subsidy program providing fringe benefits to employees who use mass transportation and van pools to commute to and from work.

Routine use of records maintained in the system, including categories of users and the purposes of such uses:

Information from this system may be disclosed to:

1. Other Federal agencies for use in evaluating the overall effectiveness of public transportation programs.

2. Another Federal agency, a court, or a party in litigation before a court or in an administrative proceeding being conducted by a Federal agency when the Government is a party to the judicial or administrative proceeding.

3. The Department of Justice, to the extent disclosure is compatible with the purpose for which the record was collected, and is relevant and necessary to litigation or anticipated litigation, in which one of the following is a party or has an interest: (a) NSF or any of its components; (b) an NSF employee in his/her official capacity; (c) an NSF employee in his/her individual capacity when the Department of Justice is representing or considering representing the employee; or (d) the United States, when NSF determines that litigation is likely to affect the Agency.

4. Contractors, grantees, volunteers, experts, advisors, and other individuals who perform a service to or work on or under a contract, grant, cooperative agreement, or other arrangement with or for the Federal government, as necessary to carry out their duties.

5. Representatives of the General Services Administration and the National Archives and Records Administration who are conducting records management inspections under the authority of 44 U.S.C. 2904 and 2906.

Policies and practices for storing, retrieving, accessing, retaining, and disposing of records in system:

Storage:

Records are maintained in file folders and in a computer system at NSF.

Retrievability:

Records are retrieved alphabetically by last name.

Safeguards:

NSF employs security guards. Building is locked during non-business hours when the guard is not on duty. Rooms in which records are kept are locked during non-business hours. Passwords are needed to access information in computer system.

Retention and disposal:

Current applications are maintained as long as the applicant is an eligible participant in the subsidy program. System records are maintained and disposed of in accordance with records maintenance and disposition schedules and the requirements of the National Archives and Records Administration (NARA).

System manager(s) and address:

Director, Division of Administrative Services, National Science Foundation, 4201 Wilson Boulevard, Arlington, VA 22230.

Notification procedures:

The NSF Privacy Act Officer should be contacted in accordance with procedures found at 45 CFR part 613.

Record access procedures:

See “Notification Procedures” above.

Contesting record procedures:

See “Notification Procedures” above.

Record source categories:

Information is gathered from the individual and from the NSF Personnel Data Base System.

System exempted from certain provisions of the Act:

None.

Dated: September 18, 2000.
D. Matthew Powell,
Assistant General Counsel.

[FR Doc. 00-25032 Filed 9-28-00; 8:45 am]

BILLING CODE 7555-01-U